FEDERAL ELECTION COMMISSION

[Notice 2010-09]

Filing Dates for the Georgia Special Election in the 9th Congressional District

AGENCY: Federal Election Commission.

ACTION: Notice of filing dates for special election.

SUMMARY: Georgia has scheduled a special general election on May 11, 2010, to fill the U.S. House of Representatives seat in the Ninth Congressional District vacated by Representative Nathan Deal. Under Georgia law, a majority winner in a non-partisan special election is declared elected. Should no candidate achieve a majority vote, a special runoff election will be held on June 8, 2010, between the top two vote-getters.

Political committees participating in the Georgia special elections are required to file pre- and post-election reports. Filing deadlines for these reports are affected by whether one or two elections are held.

FOR FURTHER INFORMATION CONTACT: Mr. Kevin R. Salley, Information Division, 999 E St., NW., Washington, DC 20463; Telephone: (202) 694-1100; Toll Free (800) 424-9530.

SUPPLEMENTARY INFORMATION:

Principal Campaign Committees

All principal campaign committees of candidates who participate in the Georgia Special General and Special Runoff Elections shall file a 12-day Pre-General Report on April 29, 2010; a Pre-Runoff Report on May 27, 2010; and a Post-Runoff Report on July 8, 2010. (See chart below for the closing date for each report).

If only one election is held, all principal campaign committees of candidates in the Special General Election shall file a 12-day Pre-General Report on April 29, 2010; and a Post-General Report on June 10, 2010. (See chart below for the closing date for each report).

Note that these reports are in addition to the campaign committee's quarterly filings in July and October. (See chart below for the closing date for each report).

Unauthorized Committees (PACs and Party Committees)

Political committees filing on a quarterly basis in 2010 are subject to special election reporting if they make previously undisclosed contributions or expenditures in connection with the Georgia Special General Election and/or Special Runoff Election by the close of books for the applicable report(s). (See chart below for the closing date for each report).

Committees filing monthly that make contributions or expenditures in connection with the Georgia Special General Elections will continue to file according to the monthly reporting schedule.

Additional disclosure information in connection with the Georgia Special Elections may be found on the FEC Web site at http://www.fec.gov/info/report_dates_2010.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,000 during the special election reporting periods (see charts below for closing date of each period). 11 CFR 104.22(a)(5)(v).

Calendar of Reporting Dates for Georgia Special Election
Report | Close of books ¹ | Reg./cert. & overnight mailing deadline | Filing deadline
IF ONLY THE SPECIAL GENERAL IS HELD (05/11/10), POLITICAL COMMITTEES INVOLVED MUST FILE:
Pre-General | 04/21/10 | 04/26/10 | 04/29/10
Post-General | 05/31/10 | 06/10/10 | 06/10/10
July Quarterly | 06/30/10 | 07/15/10 | 07/15/10
IF TWO ELECTIONS ARE HELD, POLITICAL COMMITTEES INVOLVED ONLY IN THE SPECIAL GENERAL (05/11/10) MUST FILE:
Pre-General | 04/21/10 | 04/26/10 | 04/29/10
July Quarterly | 06/30/10 | 07/15/10 | 07/15/10
POLITICAL COMMITTEES INVOLVED IN THE SPECIAL GENERAL (05/11/10) AND SPECIAL RUNOFF (06/08/10) MUST FILE:
Pre-General | 04/21/10 | 04/26/10 | 04/29/10
Pre-Runoff | 05/19/10 | 05/24/10 | 05/27/10
Post-Runoff | 06/28/10 | 07/08/10 | 07/08/10
July Quarterly |  | ² |
October Quarterly | 09/30/10 | 10/15/10 | 10/15/10
POLITICAL COMMITTEES INVOLVED ONLY IN THE SPECIAL RUNOFF (06/08/10) MUST FILE:
Pre-Runoff | 05/19/10 | 05/24/10 | 05/27/10
Post-Runoff | 06/28/10 | 07/08/10 | 07/08/10
July Quarterly |  | ² |
October Quarterly | 09/30/10 | 10/15/10 | 10/15/10
¹ The reporting period always begins the day after the closing date of the last report filed. If the committee is new and has not previously filed a report, the first report must cover all activity that occurred before the committee registered as a political committee with the Commission up through the close of books for the first report due.
² Waived.

Dated: April 1, 2010.
On behalf of the Commission.
Cynthia L. Bauerly,
Vice Chair, Federal Election Commission.

[FR Doc. 2010-7785 Filed 4-6-10; 8:45 am]

BILLING CODE 6715-01-P